DEPARTMENT OF LABOR

Employment Standards Administration

Proposed Extension of the Approval of Information Collection Requirements

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend the Office of Management and Budget (OMB) approval of the Information Collection: Application for Certificate to Employ Homeworkers (WH-46); Piece Rate Measurements; and Homeworker Handbook (WH-75). A copy of the proposed information collection request can be obtained by contacting the office listed below in the ADDRESSES section of this Notice.

DATES: Written comments must be submitted to the office listed in the addresses section below on or before June 15, 2009.

ADDRESSES: Mr. Steven D. Lawrence, U.S. Department of Labor, 200 Constitution Ave., NW., Room S-3201, Washington, DC 20210, telephone (202) 693-0292, fax (202) 693-1451, E-mail Lawrence.Steven@dol.gov. Please use only one method of transmission for comments (mail, fax, or E-mail).

SUPPLEMENTARY INFORMATION:

I. Background

Fair Labor Standards Act (FLSA) section 11(d), 29 U.S.C 211(d), authorizes the Secretary of Labor to regulate, restrict, or prohibit industrial homework as necessary or appropriate to prevent the circumvention or evasion of the minimum wage requirements of the Act. The Department of Labor (DOL) restricts homework in seven industries (i.e., knitted outerwear, women's apparel, jewelry manufacturing, gloves and mittens, button and buckle manufacturing, handkerchief manufacturing, and embroideries) to those employers who obtain certificates. See 29 CFR 530.1-.2. The DOL now allows employers to obtain general (employer) certificates to employ homeworkers in all restricted industries except women's apparel and hazardous jewelry manufacturing operations. See 29 CFR 530.101. In order to obtain general certificates to employ workers in the restricted industries under the certification program, an employer must apply to the Wage and Hour Division (WHD) of the DOL. See Id. Form WH-46 is the application form used to obtain a certificate to employ homeworkers in restricted industries, and it must contain information required by Regulations 29 CFR 530.102—including names, addresses, and languages (other than English) spoken by the homeworker—and the written assurances set forth in Regulations 29 CFR 530.103. If approved, the WHD issues a certificate that is valid for two-year periods unless suspended or revoked. 29 CFR 530.101(b). Employers in the restricted industries under the certification program who pay workers based on piece-rates must record and retain documentation of the method used to establish piece-rates in order to verify that rates were properly determined and resulted in wage payments to homeworkers at a rate at least equal to the FLSA minimum wage for all hours worked in the workweek. 29 CFR 530.202. To ensure employers fulfill their obligation to obtain and record accurate hours worked information whenever they distribute homework to employees and collect it from them, homeworkers record the information in Homeworker Handbooks (WH-75) as they perform the work and provide the Handbooks to their employer for transcription at the end of each pay period. See 29 CFR 516.31(c), 530.103(d)-(e). This information collection is currently approved for use through October 31, 2009.

II. Review Focus

The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The DOL seeks the approval of the extension of this information collection in order to ensure employees working as homeworkers are paid in compliance with the FLSA and to allow the agency to carry out its responsibilities under the Act.

Type of Review: Extension.

Agency: Employment Standards Administration.

Titles: Application for Certificate to Employ Homeworkers; Piece-Rate Measurements; and Homeworker Handbook.

OMB Number: 1215-0013.

Agency Numbers: Forms WH-46 and WH-75.

Affected Public: Business or other for-profit.

Respondents: 302,080.

Total Annual Responses: 1,208,195.

Estimated Total Burden Hours: 614,241.

Estimated Time per Response: Varies; from 30 seconds to 30 minutes.

Frequency: On occasion.

Total Burden Cost (Capital/Startup): $0.

Total Burden Cost (Operating/Maintenance): $0.

Comments submitted in response to this notice will be summarized and/or included in the request for Office of Management and Budget approval of the information collection request; they will also become a matter of public record.

Dated: April 9, 2009.
Hazel Bell,
Acting Chief, Branch of Management Review and Internal Control, Division of Financial Management, Office of Management, Administration and Planning, Employment Standards Administration.

[FR Doc. E9-8504 Filed 4-14-09; 8:45 am]

BILLING CODE 4510-27-P